DEPARTMENT OF AGRICULTURE

Forest Service

Nebraska National Forest, Nebraska & South Dakota; Supplement to the FEIS for the Nebraska National Forest Revised Land and Resource Management Plan (2002) for Black-tailed Prairie Dog (Cynomys ludovicianus) Management on the Nebraska National Forest and Associated Units

AGENCY: Forest Service, USDA.

ACTION: Notice of intent to supplement.

SUMMARY: The USDA Forest Service will prepare a Supplement to the Final Environmental Impact Statement (Supplement) for the 2002 Nebraska National Forest Revised Land and Resource Management Plan (as amended) (LRMP) for black-tailed prairie dog (Cynomys ludovicianus) management on the Nebraska National Forest and associated units (NNF). The NNF includes the Buffalo Gap and Fort Pierre National Grasslands in South Dakota and the Oglala National Grassland, Samuel R. McKelvie National Forest, and Nebraska National Forest in Nebraska. The proposed action is to amend current management direction in the LRMP to meet various multiple use objectives by: (1) Specifying the desired range of acres of prairie dog colonies that will be provided on the NFF; and (2) allowing use of toxicants if the acreage exceeds the desired range and or multiple use objectives.

DATES: Written comments must be received within 30 days after publication in the Federal Register. The draft Supplement is expected in May, 2007, followed by a 45-day comment period. The final Supplement and Record of Decision is expected by October, 2007.

ADDRESSES: Written comments on the proposed action must be sent to Donald J. Bright. Forest Supervisor, USDA Forest Service, 125 North Main, Chadron, Nebraska 69337. Comments can also be electronically submitted to: comments-rocky-mountain-nebraska@fs.fed.us, Subject line: Prairie Dog Supplement to Nebraska LRMP.

FOR FURTHER INFORMATION CONTACT: Mike McNeill, Team Leader, USDA Forest Service, at 1801 Hwy 18 Truck Bypass PO Box 732, Hot Springs, South Dakota 57747, or call (605) 745-4107.

SUPPLEMENTARY INFORMATION:

Introduction

The Record of Decision for the Revised LRMP for the Nebraska National Forest and Associated Units was approved in July, 2002. The current Nebraska LRMP (amended in 2005) and original LRMP Final Environmental Impact Statement (FEIS) can be found at http://www.fs.fed.us/ngp/. The LRMP provides general guidance and direction for managing the various natural resources on National Forest System lands. The LRMP identified the importance of prairie dogs as an element of biological diversity, and provided for increasing populations of black-tailed prairie dogs over time, particularly in Management Area 3.63, Black-footed ferret Reintroduction Habitat. The LRMP identified prairie dogs as a Management Indicator Species for several of the Geographic Areas, with guidance addressing vegetation management, livestock grazing, landownership adjustments, recreational shooting of prairie dogs, and use of rodenticides. Estimates of the anticipated acreage of prairie dog colonies were presented in the FEIS, but the LRMP did not set specific acreage objectives by unit, geographic area, or management area. Initially, the LRMP limited the use of rodenticides to control prairie dog populations to only those situations involving human health and safety risks or damage to infrastructure. In response to the issue that prairie dogs were moving from the national grasslands onto adjoining lands, in 2005 the Forest Service amended the LRMP to allow use of lethal control in boundary management zones up to one-half mile wide on the Buffalo Gap and Oglala National Grasslands and up to one-quarter mile wide on the Fort Pierre National Grassland, during the October 1 through January 31 period.

The spatial extent and density of prairie dog colonies fluctuate over time. Historically, prairie dog populations were likely influenced by natural disturbances such as bison grazing, fires, and drought. Prairie dogs prefer short vegetation (less than 6 or 7 inches tall) in order to detect potential predators, and therefore are more likely to expand their colonies in areas that are heavily grazed or recently burned, and during drought periods. During extended droughts, prairie dog colonies may spread outwards, although this may not reflect an actual increase in population size, since prairie dog density (number of prairie dogs per acre) may be lower as compared to years having greater precipitation (and more forage production).

The black-footed ferret, listed as endangered under the Endangered Species Act, relies exclusively upon prairie dogs as prey and their burrows for shelter. Once widely distributed throughout the Great Plains, black-footed ferret populations declined drastically during the 20th century. In 1987, the last 18 remaining black-footed ferrets were captured, and became the nucleus of a successful captive breeding program. Reintroductions of captive-reared ferrets began in 1991. The most successful of the nine sites where reintroductions have been attempted so far is Conata Basin/Badlands. Conata Basin is located on the Buffalo Gap National Grassland. Black-footed ferrets were reintroduced in Conata Basin beginning in 1996. This area now contains the largest free-ranging population of ferrets in the world. This population is considered to be self-sustaining, and in the past few years has even been sufficiently robust to provide some wild-born kits for reintroduction to other sites.

The western parts of both South Dakota and Nebraska have experienced nearly seven years of severe drought. During this extended drought, prairie dog colony acreages on the national grasslands have increased much faster than projected in the EIS for the LRMP. Conata Basin was designated as Management Area 3.63, Black-footed Ferret Reintroduction Habitat, in the 2002 LRMP, and in this Management Area, continued development and expansion of prairie dog colonies has been allowed.

Currently, the LRMP does not provide for limiting the number of acres of prairie dog colonies and does not provide for the use of lethal control methods for keeping the colonies within the desired range of acres. There is a concern that, if no limits are placed on prairie dog acreage, the desired balance of resource conditions, services and outputs will not be achieved, especially during drought conditions. The Forest has the ability to adjust livestock grazing through the current LRMP direction or project-level allotment planning and permit administration. It is desirable to have the option of managing the desired range of acres of prairie dog colonies based on rainfall and drought conditions on the grasslands, and to have a range of tools including the use of toxicants available for prairie dog management if the acreage substantially falls below or exceeds the desired range and or multiple use objectives.

The LRMP identifies a general purpose of revision to provide direction that would:

(1) Provide goods and services to people,

(2) Involve people and communities, and

(3) Sustain ecosystem functions.

The LRMP purpose and need can be found on pages 1-6 through 1-8 of the LRMP FEIS.

Purpose and Need for Action

We conducted an interdiscinplinary review of new information and changed circumstances from the original LRMP FEIS including prolongued drought conditions, changes in praire dog numbers and distribution, and related concerns about resulting vegetation and soil conditions. The Supplement will disclose the environmental effects of the proposed action while still providing: (1) Sufficient habitat to support a self-sustaining population of black-footed ferrets that contributes to the overall recovery of the species; and (2) sufficient habitat to maintain a well-distributed population of black-tailed prairie dogs and other associated species across the national grasslands.

Proposed Action

The proposed action is to amend current management direction in the LRMP to meet various multiple use objectives by: (1) Specifying the desired range of acres of prairie dog colonies that will be provided on the NNF; and (2) allowing use of toxicants if the acreage exceeds the desired range and for multiple use objectives. This includes amending Chapter 1, Section H, Standard #1 which identifies a limited use of rodenticides.

Responsible Official

Donald J. Bright, Forest Supervisor, USDA Forest Service, 125 North Main Street, Chadron, Nebraska 69337.

Nature of Decision To Be Made

After reviewing public comments on the proposed action and the draft Supplement, the Forest Service will decide whether or not to amend current management direction in the LRMP to meet various multiple use objectives by: (1) Specifying the desired range of acres of prairie dog colonies that will be provided on the NNF; and (2) allowing use of toxicants if the acreage exceeds the desired range and for multiple use objectives. This includes amending Chapter 1, Section H, Standard #1 which identifies a limited use of rodenticides.

Scoping Process

The Forest Service will be consulting with Federal, State, local agencies, tribes, and other individuals or organizations that may be interested in or affected by the proposal through various methods. Other Federal and State agencies will be offered cooperating agency status.

Preliminary Issues

The Forest Service has considerable experience in conserving and managing natural resources, including prairie dogs, black-footed ferrets, and other native wildlife in grassland ecosystems. Furthermore, the Forest Service conducted extensive public involvement through the process of establishing, revising and amending the LRMP. As a minimum, the following preliminary issues are anticipated:

• Effects on black-tailed prairie dogs;

• Effects on recovery of the endangered black-footed ferret;

• Effects on other wildlife species associated with prairie dogs;

• Effects on livestock grazing permittees;

• Effects on vegetation cover, topsoil, and undesirable plant species;

• Costs and effectiveness of management strategies.

The Supplement will examine these issues if not already addressed in the existing FEIS.

Comment Requested

This notice of intent initiates the scoping process which guides the Supplement. Comments should focus on the nature of the action proposed and should be relevant to the decision under consideration. Comments received from the public will be considered in determining the potential effects of the proposed action and informing the decision.

Early Notice of Importance of Public Participation in Subsequent Environmental Review

A draft Supplement will be prepared for comment. The comment period on the draft Supplement will be 45 days from the date the Environmental Protection Agency publishes the notice of availability in the Federal Register.

The Forest Service believes, at this early stage, it is important to give reviewers notice of several court rulings related to public participation in the environmental review process. First, the reviewers of the draft Supplement must structure their participation in the environmental review of the proposal so that it is meaningful and alerts an agency to the reviewer's position and contentions. Vermont Yankee Nuclear Power Corp. v. NRDC, 435 U.S. 519, 553 (1978). Also, environmental objections that could be raised at the draft Supplement stage but that are not raised until after completion of the final Supplement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the comment period so that substantive comments and objections are made available to the Forest Service at a time when it can meaningfully consider them and respond to them in the final supplemental environmental impact statement.

To assist the Forest Service in identifying and considering issues and concerns on the proposed action, comments on the draft Supplement should be as specific as possible. It is also helpful if comments refer to specific pages or chapters of the draft Supplement. Reviewers may wish to refer to the Council on Environmental Quality Regulations for implementing the procedural provisions of the National Environmental Policy Act at 40 CFR 1503.3 regarding the specificity of comments.

Comments received, including the names and addresses of those who comment, will be considered part of the public record on this proposal and will be available for public inspection.

(Authority: 40 CFR 1501.7 and 1508.22; Forest Service Handbook 1909.15, Section 21)

Dated: September 25, 2006.
Richard P. Kramer,
Acting Deputy Forest Supervisor.

[FR Doc. E6-16051 Filed 9-28-06; 8:45 am]

BILLING CODE 3410-11-P